DEPARTMENT OF LABOR

Office of the Secretary

Bureau of International Labor Affairs; Labor Advisory Committee for Trade Negotiations and Trade Policy

ACTION: Meeting notice.

SUMMARY: Pursuant to the provisions of the Federal Advisory Committee Act (Pub. L. 92-463, as amended), notice is hereby given of a meeting of the Labor Advisory Committee for Trade Negotiation and Trade Policy.

Date, Time, Place: December 19, 2006; 2:30-4:30 p.m.; USTR Annex Building, Rooms 1 and 2, 1724 F St., NW., Washington, DC.

Purpose: The meeting will include a review and discussion of current issues which influence U.S. trade policy. Potential U.S. negotiating objectives and bargaining positions in current and anticipated trade negotiations will be discussed. Pursuant to 19 U.S.C. 2155(f) it has been determined that the meeting will be concerned with matters the disclosure of which would seriously compromise the Government's negotiating objectives or bargaining positions. Accordingly, the meeting will be closed to the public. See section 10(d) of the Federal Advisory Committee Act, 5 U.S.C. app., and section (c)(9)(B) of the Government in the Sunshine Act, 5 U.S.C. 552b(c)(9)(B).

FOR FURTHER INFORMATION CONTACT: Gregory Schoepfle, Acting Director, Office of Trade and Labor Affairs; Phone: (202) 693-4887.

Signed at Washington, DC, the 12th day of December 2006.
Rob Owen,
Associate Deputy Undersecretary, International Labor Affairs.

[FR Doc. E6-21401 Filed 12-14-06; 8:45 am]

BILLING CODE 4510-28-P